DEPARTMENT OF COMMERCE

Foreign-Trade Zones Board

[Order No. 1849]

Approval for Manufacturing Authority Foreign-Trade Zone 72, Brevini Wind USA, Inc., (Wind Turbine Gear Boxes), Yorktown, IN

Pursuant to its authority under the Foreign-Trade Zones Act of June 18, 1934, as amended (19 U.S.C. 81a-81u), the Foreign-Trade Zones Board (the Board) adopts the following Order:

Whereas, the Indianapolis Airport Authority, grantee of Foreign-Trade Zone 72, has requested manufacturing authority on behalf of Brevini Wind USA, Inc., within FTZ 72 in Yorktown, Indiana (FTZ Docket 54-2011, filed 8-11-2011);

Whereas, notice inviting public comment has been given in the Federal Register (76 FR 51349-51350, 8-18-2011) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application for manufacturing authority under zone procedures within FTZ 72 on behalf of Brevini Wind USA, Inc., as described in the application and Federal Register notice, is approved, subject to the FTZ Act and the Board's regulations, including Section 400.13.

Signed at Washington, DC, this 29th day of August 2012.
Paul Piquado,
Assistant Secretary for Import Administration, Alternate Chairman, Foreign-Trade Zones Board.
Attest:
Andrew McGilvray,
Executive Secretary.

[FR Doc. 2012-22249 Filed 9-7-12; 8:45 am]

BILLING CODE P